ENVIRONMENTAL PROTECTION AGENCY

40 CFR Part 432

[FRL-7175-5]

RIN 2040-AD56

Effluent Limitations Guidelines and New Source Performance Standards for the Meat and Poultry Products Point Source Category

AGENCY: Environmental Protection Agency (EPA).

ACTION: Extension of comment period on proposed rule and clarification on public meetings.

SUMMARY: On February 25, 2002 (67 FR 8582), EPA proposed effluent limitations guidelines for wastewater discharges associated with the operation of new and existing meat and poultry products facilities. The original comment period was 60 days, ending on April 26, 2002. The comment period will now end 60 days later on June 25, 2002. In the preamble to the proposal, EPA incorrectly stated that we would be holding two “public hearings” on March 14, 2002 and April 9, 2002, whereas EPA intended only to hold public meetings on those dates. EPA is providing this extension of the comment period in part to ensure that anyone who expected to provide their comments orally at a public hearing, has an ample opportunity to provide EPA with written comments. EPA regrets any inconvenience or confusion this mistake in terminology has caused the public.

DATES: Comments on the proposed rule will be accepted through June 25, 2002.

ADDRESSES: Submit written comments to Ms. Samantha Lewis, Office of Water, Engineering and Analysis Division (4303T), U.S. EPA, 1200 Pennsylvania Avenue, NW, Washington, DC 20460. For hand-deliveries or Federal Express, please send comments to Ms. Samantha Lewis, Office of Water, Engineering and Analysis Division, Room 6233L, 1301 Constitution Avenue, NW, 6th Floor, Connecting Wing, Washington, DC 20460. Comments may be sent by email to the following email address: “meatproducts.rule@epa.gov”. EPA requests an original and three copies of your comments and enclosures (including references). Commenters who want EPA to acknowledge receipt of their comments should enclose a self-addressed, stamped envelope. No facsimiles (faxes) will be accepted.

FOR FURTHER INFORMATION CONTACT: Ms. Samantha Lewis at (202) 566-1058.

Dated: April 17, 2002.
Diane C. Regas,
Acting Assistant Administrator for Water.

[FR Doc. 02-10040 Filed 4-23-02; 8:45 am]

BILLING CODE 6560-50-P